DEPARTMENT OF THE INTERIOR

National Park Service

Notice of Inventory Completion: U.S. Department of Defense, Army Corps of Engineers, Portland District, Portland, OR

AGENCY: National Park Service, Interior.

ACTION: Notice.

Notice is here given in accordance with the Native American Graves Protection and Repatriation Act (NAGPRA), 25 U.S.C. 3003, of the completion of an inventory of human remains and associated funerary objects in the possession of the U.S. Department of Defense, Army Corps of Engineers, Portland District, Portland, OR. The human remains and associated funerary objects were removed from the Old Town Umatilla site (35 UM 1/35 UM 35), Umatilla County, OR.

This notice is published as part of the National Park Service’s administrative responsibilities under NAGPRA, 25 U.S.C. 3003(d)(3). The determinations within this notice are the sole responsibility of the museum, institution, or Federal agency that has control of the Native American human remains and associated funerary objects. The National Park Service is not responsible for the determinations within this notice.

A detailed assessment of the human remains and associated funerary objects was made by the Army Corps of Engineers staff and the Cultural Resources Protection Program of the Confederated Tribes of the Umatilla Indian Reservation, Oregon in consultation with representatives of the Confederated Tribes of the Umatilla Indian Reservation, Oregon.The Old Town Umatilla site is located in Umatilla County, OR, on the south shoreline of the Columbia River, upstream from its confluence with the Umatilla River. The site is also in the project area of the John Day Dam, which is located in north-central Oregon and south-central Washington. John Day Dam project lands extend from the confluence of the Columbia River and the John Day River upstream to Umatilla, OR.

The Old Town Umatilla site (35 UM 1/35 UM 35) was first occupied in 470 B.C. and is considered to be a prehistoric and historic Umatilla village. The site served as a major winter village of the Umatilla Indians during late prehistoric times, and includes a cemetery that dates from approximately 500 B.C. to A.D. 1700. The site lies within the traditional lands of the present-day Confederated Tribes of the Umatilla Indian Reservation, Oregon. The Confederated Tribes of the Umatilla Indian Reservation, Oregon was established by an 1855 treaty, and consists of three tribes: Cayuse, Umatilla, and Walla Walla. All three tribes belong to the Sahaptin language group, each tribe’s speaking a separate dialect of Sahaptin. Historically, these tribes occupied over 6 million acres of land in southeastern Washington and northeastern Oregon. The Umatilla reservation and ceded lands roughly include the area bounded by the Columbia and Snake Rivers on the north to Willow Creek on the west to Tucannon River on the east.

The Old Town Umatilla site has a long excavation history. In l948, the Smithsonian River Basin Surveys first recorded the late prehistoric cemetery and early historic site as 35 UM 1. The site was excavated in 1965 by the University of Oregon in conjunction with reservoir salvage for the John Day Dam, and was redesignated as 35 UM 35, the Old Town Umatilla site. The site was excavated by the Mid-Columbia Archaeological Society and the University of Idaho from 1970 through 1975, Wildesen and Associates in 1984, Heritage Research Associates in 1986, and the Confederated Tribes of the Umatilla Indian Reservation, Oregon in preparation for construction of a wastewater treatment facility in 1998.

The excavations removed over 230 human burials and approximately 38,000 associated funerary objects. In l976, at the request of the Confederated Tribes of the Umatilla Indian Reservation, Oregon, the Army Corps of Engineers, Portland District reinterred approximately 230 human burials and associated funerary objects in a cemetery near Mission, OR. The human remains and associated funerary objects were among those excavated by the Mid-Columbia Archaeological Society and University of Idaho in the 1970s. In June 2000, the remains of two individuals and two associated funerary objects removed during the l965 University of Oregon excavation were repatriated to the Confederated Tribes of the Umatilla Indian Reservation, Oregon by the University of Oregon Museum of Natural History. Human remains from the l998 Confederated Tribes of the Umatilla Indian Reservation, Oregon investigation were reburied on-site when encountered.

In 1999, the Confederated Tribes of the Umatilla Indian Reservation, Oregon requested that the Mid-Columbia Archaeological Society collections from 35 UM 1/35 UM 35 excavated during the 1970s be placed in the tribe’s facility so that tribal staff could analyze the materials to identify human remains. In 2001, Cultural Resources Protection Program staff of the Confederated Tribes of the Umatilla Indian Reservation, Oregon examined faunal remains and artifacts from 35 UM 1/35 UM 35. Their analysis identified approximately 111 human bones, representing a minimum of one individual and one additional partial human burial among the faunal collections. Based on associated artifacts these individuals have been determined to be Native American. Also, 20,697 artifacts are identified as associated funerary objects based on their proximity to the skeletal remains as described in available records. The associated funerary objects are 4,452 stone tools; 4,129 shells; 2 bottles of uncounted dentalium shells; 3,997 cobble choppers, hammerstones, and pecking stones; 2,805 projectile points; 2,075 flakes and cores; 784 shell beads; 456 bone beads, bangles, and pendants; 285 elk tooth beads; 247 bone punches, awls, and needles; 227 fragments of worked bone; 168 basalt projectile points; 163 net weights, sinkers, and anchors; 155 obsidian projectile points; 70 animal teeth; 94 pestles, metates, mauls, and milling stones; 55 stone beads and pendants; 53 ochre fragments; 47 antler or bone wedges; 47 bone harpoon points or guards; 31 bird talons or animal claws; 37 arrow shaft smoothers or abraders; 27 bone pieces; 25 antlers; 22 hopper mortars; 19 obsidian nose pieces and crescents; 13 gaming balls and bola stones; 9 raw mineral fragments (mica, concretion, sandstone, graphite, and copper); 8 slate whetstones; 4 charcoal fragments; 3 carved stone effigies; 3 worked historic glass tools; 3 pipe bowls or stems; 3 smoothing stones; 2 horn digging tools or digging stick handles; 2 stone bowl fragments; 1 celt; 1 steatite ring fragment; 1 incised pumice paint pot; 1 bird bone whistle; 1 coprolite; 1 nutshell; and 169 unidentified tools. The human remains and associated funerary objects have been cataloged under various catalog and box numbers, and are currently on loan to the Cultural Resources Protection Program of the Confederated Tribes of the Umatilla Indian Reservation, Oregon.

Officials of the Army Corps of Engineers, Portland District have determined that, pursuant to 25 U.S.C. 3001, the human remains described above represent the physical remains of a minimum number of two individuals of Native American ancestry. Officials of the Army Corps of Engineers, Portland District also have determined that, pursuant to 25 U.S.C. 3001, the 20,697 objects described above are reasonably believed to have been placed with or near individual human remains at the time of death or later as part of the death rite or ceremony. Lastly, officials of the Army Corps of Engineers, Portland District have determined that, pursuant to 25 U.S.C. 3001, there is a relationship of shared group identity that can be reasonably traced between the Native American human remains and associated funerary objects and the Confederated Tribes of the Umatilla Indian Reservation, Oregon.

Representatives of any other Indian tribe that believes itself to be culturally affiliated with the human remains and associated funerary objects should contact Ms. Gail Celmer, NAGPRA Coordinator, Environmental Resources Branch, U.S. Department of Defense, Army Corps of Engineers, Portland District, P. O. Box 2946, Portland, OR 97208-2946, telephone (503) 808-4762, before May 27, 2003. Repatriation of the human remains and associated funerary objects to the Confederated Tribes of the Umatilla Indian Reservation, Oregon may proceed after this date if no additional claimants come forward.

The Army Corps of Engineers, Portland District, is responsible for notifying the Confederated Tribes of the Umatilla Indian Reservation, Oregon that this notice has been published.

Dated: March 27, 2003
John Robbins,
Assistant Director, Cultural Resources.

[FR Doc. 03-10029 Filed 4-24-03; 8:45 am]

BILLING CODE 4310-70-S